DEPARTMENT OF COMMERCE

Census Bureau

2008 Census Dress Rehearsal

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(C)(2)(A)).

DATES: Written comments must be submitted on or before April 2, 2007.

ADDRESSES: Direct all written comments to Diana Hynek, Departmental Paperwork Clearance Officer, Room 6625, 14th and Constitution Avenue, NW., Washington, DC 20230 (or via the Internet at Dhynek@doc.gov).

FOR FURTHER INFORMATION CONTACT: Requests for additional information or copies of the information collection instruments and instructions should be directed to Frank Vitrano, U.S. Census Bureau, Room 3H174, Washington, DC 20233-9200, 301-763-3961 (or via Internet at frank.a.vitrano@census.gov).

SUPPLEMENTARY INFORMATION:

I. Abstract

Background

In order to design and implement an optimal short-form-only 2010 Census, the Census Bureau has adopted a robust incremental and iterative research, development, and testing program. This program includes several special purpose tests (e.g. cognitive tests for the wording of the race and Hispanic origin questions), two national mail-out/mail-back tests (the 2003 National Census Test and the 2005 National Census Test), two site tests (2004 Census Test and the 2006 Census Test), a dress rehearsal of the actual 2010 Census plan (2008 Census Dress Rehearsal), and finally, the 2010 Census. This strategy allowed for development of new methods and supporting systems never used in previous censuses. This strategy presented a number of opportunities to improve overall data coverage and quality, increase data processing efficiency, and contain costs.

The 2003 National Census Test was the first major test that we conducted in preparation for the 2010 Census. This was a two-part mail-out/mail-back test designed to evaluate alternative self-response options (paper, Internet, and telephone) and alternative presentations of the race and Hispanic origin questions. For more information, see Federal Register: June 7, 2002 (Volume 67, Number 110).

A site test in 2004 (the 2004 Census Test) focused on new automated field data collection methods and systems, including the use of hand held computers, and studied new methods to improve coverage. For more information on the 2004 Census Test, see Federal Register: July 11, 2003 (Volume 68, Number 133).

The 2005 National Questionnaire Content Test employed a mail-out/mail-back methodology designed to evaluate alternative treatments including procedures intended to improve the completeness and accuracy of reporting for short form items, especially the wording of the race and Hispanic origin questions. For more information on the 2005 National Census Test, see Federal Register: November 1, 2004 (Volume 69, Number 210).

A 2006 Census Test expanded on the number of new and refined methods evaluated in the 2004 Census Test, and tested integration with new systems and new infrastructure. For more information on the 2006 Census Test, see Federal Register: May 4, 2005 (Volume 70, Number 85).

2008 Census Dress Rehearsal

The 2008 Census Dress Rehearsal is an opportunity for the Census Bureau to conduct an operational test of the overall design of the 2010 Census. While we have tested certain parts of the plan, the dress rehearsal is our first opportunity to see how well all of the pieces fit together. The main goal of this dress rehearsal is to enable the Census Bureau to integrate the various operations and procedures planned for the decennial census under as close to census-like conditions as possible. Many aspects of the 2010 Census design, including the use of hand held computers, have been tested in selected local areas during our last test census using Census Bureau developed and implemented software applications and automation infrastructure. Additionally, the questionnaire content has been tested nationally over the past four years.

The 2008 Census Dress Rehearsal will be conducted in two sites, one urban, and the other one, a mix of urban and suburban. San Joaquin County, California is the urban site. South Central North Carolina has been selected as the urban/suburban mix test site. This area consists of Fayetteville and nine counties surrounding Fayetteville (Chatham, Cumberland, Harnett, Hoke, Lee, Montgomery, Moore, Richmond and Scotland).

Prior to actual enumeration, the Census Bureau will conduct the 2008 Dress Rehearsal Local Update of Census Addresses (LUCA), Address Canvassing, and Group Quarters Validation. Brief descriptions of these operations are included below for reference purposes.

The 2008 Dress Rehearsal LUCA program provides an opportunity for local, State, and tribal governments to review and update individual address information or block-by-block address counts from the Master Address File (MAF). The goal of LUCA is to improve the completeness and accuracy of the MAF.

The Address Canvassing operation, conducted in May 2007 through June 2007, is a field operation where census workers systematically canvass all census blocks looking for living quarters and updating the address and map information in a hand held computer. The purpose of the Group Quarters Validation (GQV) operation is to help us determine the status of the addresses identified during Address Canvassing as other living quarters. An address can be classified as a group quarter, housing unit, transient location, or non-residential. For the 2008 Dress Rehearsal, this operation will be conducted between September 2007 and October 2007.

II. Method of Collection

Both sites combined contain about 480,000 housing units and a variety of group quarters. The Census Bureau will establish temporary Local Census Offices (LCOs) in the two dress rehearsal sites to support data collection operations and functions. The LCOs will manage the staff recruiting, hiring, training, and conduct of all data collection operations.

In the portion of both dress rehearsal sites where city-style addresses are used for mail delivery, the Census Bureau will use a multiple mailing strategy similar to the one used in mail-out/mail-back areas in the 2006 Census Test. The multiple mailing strategy consists of:

• An advance notice letter that alerts households the census form will be sent to them shortly. For non-city style addresses, the advance letter will be delivered between February 26, 2008 and February 28, 2008 and between March 10, 2008 and March 12, 2008 for city-style addresses;

• An initial mailing package with a postage-paid return envelope will be delivered about one to two weeks after the advance letter. In certain tracts in the San Joaquin County site the questionnaire will be in English, in others it will be a bilingual (English/Spanish) form. We are examining the possibility of delivering bilingual questionnaires to selected tracts in the Chatham, Lee, and Montgomery counties within the North Carolina site.

• A blanket reminder postcard that serves as a thank you for respondents who have mailed back their questionnaire, or as a reminder for those who have not mailed one, will be delivered March 24-26, 2008.

• An English-only replacement questionnaire will be prepared and mailed on a flow basis to city-style addresses beginning about 10 days after the reminder card is mailed only to households who have not returned their questionnaire by a pre-determined date.

The United States Postal Service, via first class postage, will deliver all mailing pieces to city-style addresses.

In predominately non-city style areas in the North Carolina site, we will use the Update/Leave (U/L) methodology to deliver questionnaires. During Update/Leave, enumerators will deliver addressed English-only questionnaires to housing units in their assignment areas (one or more census blocks). The Census Bureau is currently researching the possibility of delivering bilingual questionnaires to selected tracts in the Chatham, Lee, and Montgomery counties within the North Carolina site. Concurrent with delivering addressed questionnaires, the enumerators also will update the address lists and maps in their assignment areas. Additionally, they will prepare and drop off English-only questionnaires to any added housing units that they find in their assignment areas. This operation is scheduled starting March 3, 2008 through April 7, 2008.

During Nonresponse Followup (NRFU), between April 21, 2008 and July 9 2008, enumerators equipped with hand held computers (HHC) will visit each of the addresses in both sites for which we have not yet received a census response. Enumerators will determine the Census Day (April 1, 2008) status of the unit and complete a questionnaire on their HHC based on that status. Quality check procedures conducted during this operation will include coverage edit checks and an independent reinterview of a portion of an enumerator's completed cases.

As Nonresponse Followup is completed in an LCO, we will begin the Vacant-Delete Check operation. Vacant-Delete Check is an independent follow-up of addresses classified as vacant or nonexistent for the first time during NRFU. These addresses will be assigned to an enumerator different than the enumerator who made the original classification during the NRFU operation. During the Vacant-Delete Check operation, enumerators will verify the Census Day status of the assigned addresses and complete a short form questionnaire on their HHC that reflects the Census Day status.

Individuals in group living situations (e.g. college residence halls, shelters for people experiencing homelessness, or military personnel living or staying in barracks or other group quarters on base) will not be enumerated using the mail-out/mail-back method or the U/L method. Instead, these individuals will be enumerated during the Group Quarters Enumeration, the Service-Based Enumeration or the Military Enumeration. Prior to enumerating these individuals, we will conduct the Group Quarters Advance Visit operation to inform the group quarters (GQ) contact person of the upcoming GQ enumeration, address privacy and confidentiality concerns, identify any security issues, verify the GQ name, address information, contact name and phone number, and obtain an expected Census Day population count so that the correct amount of enumeration materials can be prepared. This operation will be conducted February 8, 2008 through March 21, 2008.

During the Group Quarters Enumeration (GQE) operation, scheduled for April 1, 2008-May 16, 2008, enumerators will visit all group quarters, except GQs on military installations in order to verify their address information, obtain a list of all residents, and distribute questionnaires for completion. Within a few days, the same enumerator will return to the GQ to retrieve the completed questionnaires. In order to obtain a complete count for everyone who uses the facility, the enumerator will ask the GQ contact to provide the census information for any missing questionnaires based on the control list prepared at the initial enumeration visit. At small GQs (usually nine residents or less), enumerators will conduct personal interviews to complete a questionnaire for each resident.

The Service-Based Enumeration (SBE) is designed to enumerate people experiencing homelessness who may be missed in the traditional enumeration of housing units and group quarters. These individuals will be enumerated at places where they receive services such as meals, or a bed for the night. The SBE location will include shelters (emergency and transitional shelters, hotels and motels providing shelter for people experiencing homelessness), soup kitchens and regular stops of mobile food vans. Between March 26, 2008 and March 28, 2008, enumerators will visit these facilities to enumerate the clients using the service at the time of the enumeration.

The Military Group Quarters Enumeration operation is a special component of GQE designed to enumerate military personnel living or staying in GQ such as barracks and other group quarters on base. The enumeration for military GQs will be coordinated with the military installation Point of Contact (POC). Census staff will meet with the POCs, swear them in and leave materials for the enumeration. Any personnel assigned to participate in conducting the enumeration on the installation will also be sworn in. The POC determines how the questionnaires are distributed on the installation for completion. Census Bureau staff will then return to the installation to collect the questionnaires, obtain census information for any missing cases, and provide the completed questionnaires to the local census office. However, those military families living in housing units on base will be enumerated using the mail-out/mail-back methodology.

For those areas where a transient population may exist, the Census Bureau will conduct the Enumeration at Transitory Locations (ETL) operation between March 17, 2008 and April 18, 2008. Transitory Locations include recreational vehicle (RV) parks, campgrounds, marinas, racetracks, hotels, motels (civilian and military) and carnivals.

During this operation, enumerators will visit these identified areas and complete census questionnaires for residents who have no other place of residence for which they can be counted.

To support data collection activities, respondents will be able to call the toll-free telephone number to obtain information about the dress rehearsal. Census Bureau employees at the call center will provide telephone questionnaire assistance by answering questions about the census questionnaire and about the dress rehearsal and provide fulfillment services for respondents who request a replacement questionnaire, a questionnaire in a language other than English, or a language assistance guide. In addition, beginning in late March 2008, the Census Bureau will be placing unaddressed Be Counted forms in community locations and Walk-in Assistance Centers throughout the dress rehearsal sites for respondents to use to submit their census information. The Census Bureau intends to make these forms available in the English, Spanish and Chinese languages.

As part of the 2008 Census Dress Rehearsal, the Census Bureau will conduct the 2008 Coverage Followup operation and the 2008 Census Coverage Measurement operation. Information collection requests for these operations will be submitted separately for OMB review. Brief descriptions of these operations are included below for reference purposes.

The 2008 Coverage Follow-up operation is designed to improve coverage by collecting additional information from households identified with the following criteria, such as:

• Unresolved potential duplicate persons based on the unduplication operation;

• Count discrepancies on their mail-back questionnaires as a result of the coverage edit;

• Yes responses to the coverage probes on the mail-back questionnaires;

• Large households (more than six persons) on their mail-back questionnaires; and,

• Persons identified on administrative records but not included on their census questionnaire.

Coverage Follow-up will be conducted on the telephone. We will contact the above households from a commercial call center and complete a Coverage Follow-up web-based questionnaire.

The 2008 Census Coverage Measurement (CCM) operations are designed to rehearse all of the planned coverage measurement operations to ensure they are working as expected, and that they are integrated with the appropriate census operations. This is particularly important because the dress rehearsal is the first time in the 2010 census cycle that coverage measurement operations for housing units will be conducted. The CCM operations planned for the dress rehearsal, to the extent possible, will mirror those that will be conducted for the 2010 Census to provide estimates of net coverage error and coverage error components (omissions and erroneous enumerations) for person and housing units. Because the dress rehearsal is being conducted in only two sites, our ability to produce good estimates of omissions and erroneous enumerations will be limited.

III. Data

OMB Number: Not available.

Form Number(s): DX-1—(Initial Mailback Questionnaire, also used for Replacement and U/L).

DX-1(UL)—Update Leave (ADD)

DX-1(E/S)—Bilingual (English/Spanish)

DX-1(C)—FULFILLMENT—Mailback Language Questionnaire (Chinese)

DX-10—Be Counted (English)

DX-10(S)—Be Counted (Spanish)

DX-10(C)—Be Counted (Chinese)

DX-15—Transient Enumeration

DX-20—ICR (English)

DX-20(S)—ICR (Spanish)

DX-21—Military Census Report

DX-61—Informational copy of Mailback Questionnaire

DX-61(E/S)—Informational copy of Bilingual Questionnaire (English/Spanish)

DX-351—Other Living Quarters Validation Electronic Data Collection:

DX-1(EE)—NRFU (English)

DX-1(ESE)—NRFU (Spanish)

DX-1(ERE)—NRFU Reinterview (English)

DX-1(ERSE)—NRFU Reinterview (Spanish)

Type of Review: Regular.

Affected Public: Individuals or households.

Estimated number of Respondents: Approximately 480,000 housing units for NRFU and Vacant Delete Check. Approximately 16,450 housing units for Reinterview. Approximately 42,421 residents in group living situations.

Estimated Time Per Response: All housing unit questionnaires will require approximately 10 minutes for response. The ICR questionnaires will require approximately 5 minutes for response.

Estimated Total Annual Burden Hours: Approximately 80,000 hours for the housing units that responded by mail or during NRFU. Approximately 2,742 hours for Reinterview. Approximately 3,535 hours for Group Quarters Enumeration, Service-Based Enumeration and Military Enumeration combined.

Estimated Total Annual Cost: There is no cost to respondents except for their time to respond.

Respondent Obligation: Mandatory.

Legal Authority: Title 13 of the United States Code, Sections 141 and 193.

IV. Request for Comments

Comments are invited on (a) Whether the proposed collection of information is necessary for the proper performance of the functions of the agency, including whether the information shall have practical utility; (b) the accuracy of the agency's estimate of the burden (including hours and cost) of the proposed collection of information; (c) ways to enhance the quality, utility, and clarity of the information to be collected, and (d) ways to minimize the burden of the collection of information on respondents, including through the use of automated collection techniques or other forms of information technology.

Comments submitted in response to this notice will be summarized and/or included in the request for OMB approval of this information collection; they also will become a matter of public record.

Dated: January 24, 2007.
Gwellnar Banks,
Management Analyst, Office of the Chief Information Officer.

[FR Doc. E7-1410 Filed 1-29-07; 8:45 am]

BILLING CODE 3510-07-P